DEPARTMENT OF AGRICULTURE

Rural Utilities Service

7 CFR Part 1710

RIN 0572-AC15

Electric Program: Definition of Rural Area

AGENCY: Rural Utilities Service, USDA.

ACTION: Direct final rule.

SUMMARY: The Rural Utilities Service (RUS) is amending its regulations to administer the Electric Program. This action implements the provision in the Food, Conservation, and Energy Act of 2008 hereinafter called the “2008 Farm Bill,” amending the definition of “rural area.” The 2008 Farm Bill revises the definition of rural to include any area other than a city, town, or unincorporated area that has a population of greater than 20,000 inhabitants. The 2008 Farm Bill also includes in the revised rural definition those service areas of borrowers having an outstanding loan under Titles I through V of the Rural Electrification Act of 1936. The intended effect is to update agency regulations to reflect current statutory authority. No adverse comments are expected.

DATES: This rule will become effective December 17, 2009 unless the Agency receives written adverse comments or a written notice of intent to submit adverse comments on or before December 2, 2009. If we receive adverse comments or notices, the Agency will publish a timely document in the Federal Register withdrawing the rule. Comments received will be considered under the proposed rule published in this edition of the Federal Register in the proposed rule section. A second public comment period will not be held. Written comments must be received by the Agency or carry a postmark or equivalent no later than December 2, 2009.

ADDRESSES: Submit adverse comments or notice of intent to submit adverse comments by any of the following methods:

• Federal eRulemaking Portal: Go to http://www.regulations.gov. In the “Search Documents” box, enter RUS-09-Electric-0002, check the box under the Search box labeled “Select to find documents accepting comments or submissions,” and click on the GO>> key. To submit a comment, choose “Send a comment or submission,” under the Docket Title. In order to submit your comment, the information requested on the “Public Comment and Submission Form,” must be completed. (If you click on the hyperlink of the docket when the search returns it, you will see the docket details. Click on the yellow balloon to receive the “Public Comment and Submission Form.”) Information on using Regulations.gov, including instructions for accessing documents, submitting comments, and viewing the docket after the close of the comment period, is available through the site's “How to Use this Site” link.

• Postal Mail/Commercial Delivery: Please send your comment addressed to Michele Brooks, Director, Program Development and Regulatory Analysis, USDA Rural Development, STOP 1522, Room, 5159 1400 Independence Avenue, SW., Washington, DC 20250-1522. Please state that your comment refers to Docket No. RUS-09-Electric-0002.

Other Information: Additional information about RUS and its programs is available at http://www.rurdev.usda.gov/index.html.

FOR FURTHER INFORMATION CONTACT: Chris Tuttle, Economist, Electric Programs, Rural Utilities Service, USDA Rural Development, 1400 Independence Avenue, STOP 1570, Room 5038 South Building, Washington, DC 20250-1570. Telephone: (202) 205-3655; FAX: (202) 690-0717; e-mail: chris.tuttle@wdc.usda.gov.

SUPPLEMENTARY INFORMATION:

Executive Order 12866

This rule has been determined to be not significant for purposes of Executive Order 12866 and, therefore has not been reviewed by the Office of Management and Budget (OMB).

Executive Order 12372

The program is not subject to the provisions of Executive Order 12372, “Intergovernmental Review of Federal Programs,” as implemented under USDA's regulations at 7 CFR part 3015.

Executive Order 12988

This rule has been reviewed under Executive Order 12988, Civil Justice Reform. The Agency has determined that this rule meets the applicable standards provided in section 3 of the Executive Order. In addition, all state and local laws and regulations that are in conflict with this rule will be preempted; no retroactive effect will be given to the rule; and in accordance with section 212(e) of the Department of Agriculture Reorganization Act of 1994, (7 U.S.C. 6912(e)), administrative appeal procedures, if any, must be exhausted before litigation against the Department or its agencies may be initiated.

Executive Order 13132, Federalism

This rule will not have any substantial direct effect on states, on the relationship between the national government and the states, or on the distribution of power and responsibilities among the various levels of government. Therefore, consultation with states is not required.

Regulatory Flexibility Act Certification

The Agency certifies that this rule will not have a significant economic impact on a substantial number of small entities, as defined in the Regulatory Flexibility Act, 5 U.S.C. 605(b); therefore, no further analysis is required. The amendments reflect only statutory changes that Congress has mandated and over which the Agency has no discretion. They also involve minimal procedural matters on other agreements already negotiated.

Information Collection and Recordkeeping Requirements

This rule contains no new reporting or recordkeeping burdens under Office of Management and Budget (OMB) control number 0572-0032 that would require approval under the Paperwork Reduction Act of 1995 (44 U.S.C. Chapter 35).

National Environmental Policy Act Certification

This final rule has been examined under Agency environmental regulations at 7 CFR part 1794. The Administrator has determined that this rule is not a major Federal action significantly affecting the environment. Therefore, in accordance with the National Environmental Policy Act of 1969 (42 U.S.C. 4321 et seq.), an Environmental Impact Statement or Assessment is not required.

Catalog of Federal Domestic Assistance

The Catalog of Federal Domestic Assistance (CFDA) number assigned to the Electric Loan and Loan Guarantee program is 10.850 Rural Electrification Loans and Loan Guarantees. The catalog is available on the Internet and the General Services Administration's (GSA) free CFDA website at http://www.cfda.gov. The CFDA website also contains a PDF file version of the Catalog that, when printed, has the same layout as the printed document that the Government Printing Office (GPO) provides. GPO prints and sells the CFDA to interested buyers. For information about purchasing the Catalog of Federal Domestic Assistance from GPO, call the Superintendent of Documents at 202-512-1800 or toll free at 866-512-1800, or access GPO's on-line bookstore at http://bookstore.gpo.gov.

Unfunded Mandates

This rule contains no Federal mandates (under the regulatory provisions of Title II of the Unfunded Mandates Reform Act of 1995) for State, local, and tribal governments or the private sector. Thus, this rule is not subject to the requirements of sections 202 and 205 of the Unfunded Mandates Reform Act of 1995.

E-Government Act Compliance

The Agency is committed to complying with the E-Government Act, to promote the use of the Internet and other information technologies to provide increased opportunities for citizen access to Government information and services, and for other purposes.

Background

The Rural Electrification Act of 1936 (7 U.S.C. 901-950bb (REACT)), as amended establishes the authority for RUS to provide loans and loan guarantees to eligible entities for the purpose of financing the construction and operation of generating plants, electric transmission and distribution lines or systems for the furnishing and improving of electric service to rural areas, including by assisting electric borrowers to implement demand side management, energy conservation programs, and on and off grid renewable energy systems.

The Food, Conservation, and Energy Act of 2008 (2008 Farm Bill) (Pub. L. 110-246) hereinafter called the “2008 Farm Bill,” amends Section 13 of the Rural Electrification Act of 1936 by revising the definition of rural area to include any area other than a city, town, or unincorporated area that has a population of greater than 20,000 inhabitants. The 2008 Farm Bill also includes in the revised rural definition those service areas of borrowers having an outstanding loan under Titles I through V of the REACT. The general and preloan policies and procedures common to Electric Program loans and loan guarantees are established in 7 CFR part 1710.

The amendments will have no financial impact on the public or the Agency. It is a necessary action to comply with the requirements of the 2008 Farm Bill. These amendments are not published for proposed rulemaking because they merely reflect changes in statutory authority enacted by the 2008 Farm Bill and make only minor technical corrections to the regulations, which do not involve matters of agency discretion. Notice and public comment, therefore, are impractical, unnecessary, and contrary to the public interest.

List of Subjects in 7 CFR Part 1710

Electric power, Loan programs-energy, Reporting and recordkeeping requirements, Rural areas.

For reasons set forth in the preamble, chapter XVII of title 7 of the Code of Federal Regulations is amended as follows:

PART 1710—GENERAL PRE-LOAN POLICIES AND PROCEDURES COMMON TO ELECTRIC LOANS AND GUARANTEES

1. The authority citation for part 1710 continues to read as follows:

Authority: 7 U.S.C. 901 et seq., 1921 et seq., 6941 et seq.

Subpart A—General

2. Amend § 1710.2(a) to revise the definitions of “Rural Area” and “Urban Area” to read as follows:

§ 1710.2 Definitions and rules of construction.

(a)

* * * * *

Rural area means

(i) any area of the United States, its territories and insular possessions (including any area within the Federated States of Micronesia, the Marshall Islands, and the Republic of Palau) other than a city, town, or unincorporated area that has a population of greater than 20,000 inhabitants; and

(ii) any area within a service area of a borrower for which a borrower has an outstanding loan as of June 18, 2008, made under titles I through V of the Rural Electrification Act of 1936 (7 U.S.C. 901-950bb). For initial loans to a borrower made after June 18, 2008, the “rural” character of an area is determined at the time of the initial loan to furnish or improve service in the area.

* * * * *

Urban area is defined as any area not considered a rural area per the definition contained in this subpart.

* * * * *

Jonathan Adelstein,
Administrator, Rural Utilities Service.

[FR Doc. E9-26204 Filed 10-30-09; 8:45 am]

BILLING CODE 3410-15-P